JUDICIAL CONFERENCE OF THE UNITED STATES

Hearings of the Judicial Conference Advisory Committees on Rules of Appellate, Bankruptcy, Civil, and Criminal Procedure

AGENCY: Judicial Conference of the United States, Advisory Committees on Rules of Appellate, Bankruptcy, Civil, and Criminal Procedure.

ACTION: Notice of proposed amendments and open hearings.

SUMMARY: The Advisory Committees on Rules of Appellate, Bankruptcy, Civil, and Criminal Procedure have proposed new rules and amendments to the following rules:

Appellate Rule: 25;

Bankruptcy Rules: 1014, 3001, 3007, 4001, 6006, 7007.1, and new Rules 6003, 9005.1, and 9037;

Civil Rule: New Rule 5.2, and Illustrative Forms; and

Criminal Rules: 11, 32, 35, 45, and new Rule 49.1.

Public hearings are scheduled to be held on the amendments to:

• Appellate Rules in Phoenix, Arizona, on January 9, 2006;

• Bankruptcy Rules in Phoenix, Arizona, on January 9, 2006;

• Civil Rules in Chicago, Illinois, on November 18, 2005; and in Washington, DC, on December 2, 2005; and

• Criminal Rules in Phoenix, Arizona, on January 9, 2006.

Those wishing to testify should contact the Secretary at the address below in writing at least 30 days before the hearing. All written comments and suggestions with respect to the proposed amendments and new rules must be placed in the hands of the Secretary as soon as convenient and not later than February 15, 2006. They can be sent by one of the following three ways: by mail to Peter G. McCabe, Secretary, Committee on Rules of Practice and Procedure of the Judicial Conference of the United States, Thurgood Marshall Federal Judiciary Building, Washington, DC 20544; by electronic mail at http://www.uscourts.gov/rules; or by facsimile to Peter G. McCabe at (202) 502-1766. In accordance with established procedures all comments submitted are available for public inspection.

The text of the proposed rules amendments and the accompanying Committee Notes can be found at the United States Federal Courts' Home page at http://www.uscourts.gov/rules.

FOR FURTHER INFORMATION CONTACT: John K. Rabiej, Chief, Rules Committee Support Office, Administrative Office of the United States Courts, Washington, DC 20544, telephone (202) 502-1820.

Dated: September 2, 2005.
John K. Rabiej,
Chief, Rules Committee Support Office.

[FR Doc. 05-18062 Filed 9-12-05; 8:45 am]

BILLING CODE 2210-55-M